DEPARTMENT OF ENERGY

Fusion Energy Sciences Advisory Committee

AGENCY: Office of Science, Department of Energy.

ACTION: Notice of open teleconference meeting.

SUMMARY: This notice announces a teleconference meeting of the Fusion Energy Sciences Advisory Committee (FESAC). Federal Advisory Committee Act (Pub. L. 92-463, 86 Stat.770) requires that public notice of these meetings be announced in the Federal Register.

DATES: Friday, October 10, 2014, 1:00 p.m. to 4:00 p.m. EDT

ADDRESSES: Public participation is welcomed. Information concerning the call-in number can be found on the Web site: http://science.energy.gov/fes/fesac/meetings/ or by contacting Dr. Samuel J. Barish by email sam.barish@science.doe.gov or by phone (301) 903-2917.

FOR FURTHER INFORMATION CONTACT: Dr. Edmund J. Synakowski, Designated Federal Officer, FESAC, U.S. Department of Energy, Office of Science, Office of Fusion Energy Sciences, SC-24/Germantown Building, 1000 Independence Avenue SW., Washington, DC 20585-1290. Phone 301-903-4941; fax (301) 903-8584 or email: ed.synakowski@science.doe.gov.

SUPPLEMENTARY INFORMATION: Purpose of the Meeting: To consider final approval of the report of the FESAC Strategic Plan Subcommittee. The report was requested in a letter from the Acting Director of the Office of Science (SC), dated April 8, 2014, in response to the FY 2014 Omnibus Appropriations Act which requires the Department to submit a ten-year strategic plan for the Fusion Energy Sciences (FES) program by January 2015.

Tentative Agenda:

• Approval of the Report of the FESAC Strategic Plan Subcommittee. (http://science.energy.gov/~/media/fes/fesac/pdf/2014/FESAC_Charge_Feb_19_2014.pdf)

• Other Business as Necessary

• Public Comments

• Adjourned

Public Participation: The teleconference meeting is open to the public. If you would like to file a written statement with the Committee, you may do so either before or after the meeting. If you would like to make an oral statement regarding the primary item on the agenda, you should contact Sam Barish at the Email address or telephone number listed above. You must make your request for an oral statement at least five business days before the meeting. Reasonable provision will be made to include the scheduled oral statements on the agenda. An Acting Chairperson of the Committee will conduct the meeting to facilitate the orderly conduct of business. Public comment will follow the 10-minute rule.

Minutes: The minutes of the meeting will be available for public review and copying within 45 days at the Freedom of Information Public Reading Room; 1G-033, Forrestal Building; 1000 Independence Avenue SW., Washington, DC 20585; between 9:00 a.m. and 4:00 p.m., Monday through Friday, except holidays, and on the Fusion Energy Sciences Advisory Committee Web site— http://science.energy.gov/fes/fesac/

Issued at Washington, DC, on September 23, 2014.
LaTanya R. Butler,
Deputy Committee Management Officer.

[FR Doc. 2014-23090 Filed 9-26-14; 8:45 am]

BILLING CODE 6450-01-P